DEPARTMENT OF TRANSPORTATION

Federal Railroad Administration

[Docket Number FRA-2014-0091]

Petition for Waiver of Compliance

In accordance with Part 211 of Title 49 Code of Federal Regulations (CFR), this document provides the public notice that by a document dated September 29, 2014, the Eastern Berks Gateway Railroad (EBGR) has petitioned the Federal Railroad Administration (FRA) for a waiver of compliance from certain provisions of the Federal railroad safety regulations contained at 49 CFR 223.11, Requirements for existing locomotives. FRA assigned the petition Docket Number FRA-2014-0091. EBGR is headquartered in Boyertown, PA, and is a for-profit subsidiary of the nonprofit Colebrookdale Railroad Restoration Trust. EBGR has petitioned for a permanent waiver of compliance for its Plymouth locomotive, Number 6434, from the requirements of the Railroad Safety Glazing Standards, 49 CFR part 223, for certified glazing in all windows and a minimum of four emergency windows. The locomotive was built in 1964. The locomotive is used for one or two weekly trips over 8.6 miles of track between Boyertown and Pottstown, PA, which serves as a feeder line to the Norfolk Southern Railroad that runs through Pottstown, PA. The line meanders through woods and rock formations. There are six public at-grade highway crossings on the railroad. Two of those crossings have automated flashing lights. The remainder is equipped with cross-bucks. The locomotive is used primarily for passenger excursion trains and for yard switching duties in Boyertown. The maximum speed limit for these operations is 10 mph. EBGR indicates no instance of vandalism or personal injury, and professes financial burden in retrofitting the locomotive to comply with FRA safety glazing standards.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 23, 2015 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on January 5, 2015.
Ron Hynes,
Director, Office of Technical Oversight.

[FR Doc. 2015-00114 Filed 1-8-15; 8:45 am]

BILLING CODE 4910-06-P